NUCLEAR REGULATORY COMMISSION

Advisory Committee on Reactor Safeguards Subcommittee Meeting on Safeguards and Security; Notice of Meeting

The ACRS Subcommittee on Safeguards and Security will hold a closed meeting on November 3, 2004, Room T-8E8, 11545 Rockville Pike, Rockville, Maryland.

The entire meeting will be closed to public attendance to protect information classified as national security information and safeguards information pursuant to 5 U.S.C. 552b(c)(1) and (3).

The agenda for the subject meeting shall be as follows:

Wednesday, November 3, 2004—8:30 a.m. until 11:30 a.m.

The Subcommittee will hear presentations from the NRC staff, NRC staff consultants, and representatives of the industry regarding safeguards and security issues. The purpose of this meeting is to gather information, analyze relevant issues and facts, and formulate proposed positions and actions, as appropriate, for deliberation by the full Committee.

FOR FURTHER INFORMATION CONTACT: Mr. Richard K. Major (telephone: 301-415-7366) or Dr. Richard P. Savio (telephone: 301-415-7362) between 7:30 a.m. and 4:15 p.m. (e.t.).

Dated: October 19, 2004.
John H. Flack,
Acting Branch Chief, ACRS/ACNW.

[FR Doc. 04-23902 Filed 10-25-04; 8:45 am]

BILLING CODE 7590-01-P